ENVIRONMENTAL PROTECTION AGENCY

[FRC-7537-9]

Lexington County Landfill Superfund Site; Notice of Proposed Settlement

AGENCY: Environmental Protection Agency.

ACTION: Notice of proposed settlement.

SUMMARY: The United States Environmental Protection Agency is proposing to enter into an Administrative Agreement for recovery of Future Response Costs pursuant to section 122(h) (1) of the Comprehensive Environmental Response, Compensation and Liability Act of the 1980 (CERCLA), as amended regarding the Lexington County Landfill Superfund Site located in Cayce, Lexington County, South Carolina. This Agreement is made and entered into by EPA and by Lexington County, South Carolina (“Setting Parties”). EPA will consider Public comments on the proposed settlement until August 29, 2003.

EPA may withdraw from or modify the proposed settlement should such comments disclose fact or considerations which indicate the proposed settlement is appropriate, improper, or inadequate. Copies of the proposed settlement are available from: Ms. Paula V. Batchelor, U.S. EPA, Region 4, Sam Nunn Atlanta Federal Center, Waste Management Division, 61 Forsyth Street, SW., Atlanta, Georgia 30303, (404) 562-8887.

Written comments may be submitted to Ms. Batchelor within thirty (30) calendar days of the date of this publication.

Dated: July 14, 2003.
Archie Lee,
Chief, CERCLA Program Services Branch, Waste Management Division.

[FR Doc. 03-19350 Filed 7-29-03; 8:45 am]

BILLING CODE 6560-50-P